DEPARTMENT OF TRANSPORTATION

Federal Aviation Administration

RTCA Special Committee 172; Future Air-Ground Communications in the VHF Aeronautical Data Band (118-137 MHz)

Pursuant to section 10(a)(2) of the Federal Advisory Committee Act (Pub. L. 92-463, 5 U.S.C., Appendix 2), notice is hereby given for Special Committee 172 meeting to be held May 22-25, 2000, starting at 9:00 a.m. The meeting will be held at RTCA, 1140 Connecticut Avenue, NW., Suite 1020, Washington, DC 20036.

The agenda will be as follows: May 22: (a.m.) (1) Plenary Convenes at 9:00 a.m.; (2) Introductory Remarks; (3) Review and Approve Agenda; (4) Working Group (WG)-2, VHF Data Radio Signal-in-Space Minimum Aviation System Performance Standards, final work and vote on VDL Mode 3 document; (5) Continue WG-2; (6) Begin WG-3; (7) WG Continues with VHF Digital Radio Minimum Operational Performance Standards (MOPS) document progress and furtherance of work. May 24: Plenary Reconvenes: (8) Review Summary Minutes of Previous Meeting; (9) Review Reports from WG-2 and WG-3; (10) Report on ICAO Aeronautical Mobile Communications Panel Working Group Activities; (11) Review EUROCAE WG-47 Report and discuss schedule for further work with WG-3; (12) Review Issues List and Future Work Program; (13) Other Business; (14) Dates and Locations of Next Meeting.

Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax); or http://www.rtca.org (web site). Members of the public may present a written statement to the committee at any time.

Issued in Washington, DC, on April 24, 2000.
Jane P. Caldwell,
Designated Official.

[FR Doc. 00-10713 Filed 4-28-00; 8:45 am]

BILLING CODE 4910-13-M